DEPARTMENT OF STATE

[Public Notice: 9375]

Notice of Public Meeting

The Department of State will conduct an open meeting at 9:00 a.m. on Wednesday, 6 January 2016, in Conference Room 4 of the Department of Transportation Headquarters Conference Center, West Building, 1200 New Jersey Avenue SE., Washington, DC 20590. The primary purpose of the meeting is to prepare for the third Session of the International Maritime Organization's (IMO) Sub-Committee on Ship Design and Construction to be held at the IMO headquarters, London, United Kingdom, January 18-22, 2016.

The agenda items to be considered include:

—Amendments to SOLAS regulations II-1/6 and II-1/8-1

—Computerized stability support for the master in case of flooding for existing passenger ships

—Guidelines on safe return to port for passenger ships

—Finalization of second-generation intact stability criteria

—Amendments to part B of the 2008 IS Code on towing, lifting and anchor handling operations

—Amendments to SOLAS and FSS Code to make evacuation analysis mandatory for new passenger ships and review of the Recommendation on evacuation analysis for new and existing passenger ships

—Amendments to SOLAS chapter II-1 and associated guidelines on damage control drills for passenger ships

—Revision of section 3 of the Guidelines for damage control plans and information to the master (MSC.1/Circ.1245) for passenger ships

—Classification of offshore industry vessels and a review of the need for a non-mandatory code for offshore construction support vessels

—Guidelines for wing-in-ground craft

—Amendments to the 2011 ESP Code

—Unified interpretation to provisions of IMO safety, security, and environment-related Conventions

—Revised SOLAS regulation II-1/3-8 and associated guidelines (MSC.1/Circ.1175) and new guidelines for safe mooring operations for all ships

—Mandatory Instrument and/or provisions addressing safety standards for the carriage of more than 12 industrial personnel on board vessels engaged on international voyages

—Guidelines for use of Fibre Reinforced Plastic (FRP) within ship structures

Members of the public may attend this meeting up to the seating capacity of the room. To facilitate the building security process, and to request reasonable accommodation, those who plan to attend should contact the meeting coordinator, LT Joshua Kapusta, by email at Joshua.A.Kapusta@uscg.mil, by phone at (202) 372-1428, by fax at (202) 372-1925, or in writing at 2703 Martin Luther King Jr. Ave. SE., Stop 7509, Washington, DC 20593-7509 not later than Wednesday, 30 December 2015, 7 days prior to the meeting. A call-in number option will be available upon RSVP. Requests made after 30 December 2015, might not be able to be accommodated. Please note that due to security considerations, two valid, government issued photo identifications must be presented to gain entrance to the Department of Transportation Headquarters. This location is accessible by taxi, privately owned conveyance, and public transportation (located near the Navy Yard Metro Station). Additional information regarding this and other IMO public meetings may be found at: www.uscg.mil/imo.

Dated: November 12, 2015.
Jonathan W. Burby,
Coast Guard Liaison Officer, Office of Ocean and Polar Affairs, Department of State.

[FR Doc. 2015-31269 Filed 12-10-15; 8:45 am]

BILLING CODE 4710-09-P